DEPARTMENT OF JUSTICE

Notice of Lodging of Consent Decree Pursuant to Clean Water Act

Notice is hereby given that on October 31, 2006, a proposed consent decree in United States, et al. v. Greater Lawrence Sanitary District, Civil Action No. 06-11975-PBS, was lodged with the United States District Court for the District of Massachusetts.

The proposed consent decree will settle the United States' and Commonwealth of Massachusetts' claims for violations of the Clean Water Act, 33 U.S.C. 1251 et seq., and the Massachusetts Clean Waters Act, Mass. Gen. Laws c. 21, §§ 26, et seq., related to the failure by the Greater Lawrence Sanitary District (GLSD) to comply with its wastewater treatment discharge permit at its combined sewer overflow outfalls. Pursuant to the proposed consent decree, GLSD will pay $254,000 as civil penalty for such violations and institute necessary improvements at its wastewater treatment plant at an estimated cost of $18 million.

The Department of Justice will receive for a period of thirty (30) days from the date of this publication comments relating to the proposed consent decree. Comments should be addressed to the Assistant Attorney General of the Environment and Natural Resources Division, Department of Justice, Washington, DC 20530, and should refer to United States, et al. v. Greater Lawrence Sanitary District, Civil Action No. 06-11975-PBS, D.J. Ref. 90-5-1-1-08171.

The proposed consent decree may also be examined at the Office of the United States Attorney, District of Massachusetts, John Moakley Courthouse, 1 Courthouse Way, Room 9200, Boston, MA, at U.S. EPA Region 1, One Congress Street, Boston, MA. During the public comment period, the proposed consent decree may also be examined on the following Department of Justice Web site, http://www.usdoj.gov/enrd/ConsentDecrees.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed consent decree (without attachments), please so note and enclose a check in the amount of $8.00 (25 cents per page reproduction cost) payable to the U.S. Treasury, or if by e-mail or fax, forward a check in that amount to the Consent Decree Library at the stated address.

Ronald Gluck,
Assistant Chief, Environmental Enforcement Section, Environment and Natural Resources Division.

[FR Doc. 06-9168 Filed 11-9-06; 8:45 am]

BILLING CODE 4410-15-M